DEPARTMENT OF THE INTERIOR

Fish and Wildlife Service

50 CFR Part 17

[Docket No. FWS-R1-ES-2015-0128; 4500030113]

RIN 1018-AZ97

Endangered and Threatened Wildlife and Plants; Proposed Endangered Status for Five Species From American Samoa

AGENCY: Fish and Wildlife Service, Interior.

ACTION: Proposed rule; reopening of public comment period and notice of public hearing.

SUMMARY: We, the U.S. Fish and Wildlife Service (Service), announce the reopening of the comment period on our October 13, 2015, proposed rule to list five species from American Samoa—two endemic American Samoan land snails, the American Samoa distinct population segment of the friendly ground-dove, the Pacific sheath-tailed bat (South Pacific subspecies), and the mao—as endangered species under the Endangered Species Act of 1973, as amended (Act). We now reopen the public comment period for an additional 30 days and announce notice of a public hearing and public information meeting on our proposed rule. We are reopening the public comment period to allow all interested parties additional time and opportunity to comment on the proposed rule.

DATES: Public Hearing: We will hold a public hearing, preceded by a public information meeting. The public hearing and public information meeting will be held in the U.S. Territory of American Samoa on the island of Tutuila. A public hearing will take place on Thursday, January 21, 2016, at the Governor H. Rex Lee Auditorium or Fale Laumei, Main Building, from 3:00 p.m. to 5:00 p.m., and will be preceded by a public information meeting from 2:00 p.m. to 3:00 p.m. at the same location. See ADDRESSES for location details.

Written Comments: We will consider comments received or postmarked on or before February 4, 2016 or at the public hearing. Please note that comments submitted electronically using the Federal eRulemaking Portal (see ADDRESSES) must be received by 11:59 p.m. Eastern Time on the closing date. Any comments that we receive after the closing date may not be considered in the final decision on these actions.

ADDRESSES: Document Availability: You may obtain copies of the proposed rule at http://www.regulations.gov at Docket No. FWS-R1-ES-2015-0128; from the Pacific Islands Fish and Wildlife Office's Web site (http://www.fws.gov/pacificislands); or by contacting the Pacific Islands Fish and Wildlife Office directly (see FOR FURTHER INFORMATION CONTACT).

Public Hearing: The public hearing and public information meeting on the proposed listing of the five American Samoa species will be held as follows: On the island of Tutuila, a public hearing will take place on Thursday, January 21, 2016, at the Governor H. Rex Lee Auditorium or Fale Laumei, Main Building, located at Route 1, William McKinley Memorial Highway, Utulei, American Samoa 96799, from 3:00 p.m. to 5:00 p.m., and will be preceded by a public information meeting from 2:00 p.m. to 3:00 p.m. People needing reasonable accommodation in order to attend and participate in either the public hearing or the public meeting should contact Mary Abrams, Field Supervisor, Pacific Islands Fish and Wildlife Office, as soon as possible (see FOR FURTHER INFORMATION CONTACT).

Comment submission: You may submit comments by one of the following methods:

(1) Electronically: Go to the Federal eRulemaking Portal: http://www.regulations.gov. In the Search box, enter FWS-R1-ES-2015-0128, which is the docket number for this action. You may submit a comment by clicking on “Comment Now!”

(2) By hard copy: Submit comments on the proposed listing rule by U.S. mail or hand-delivery to: Public Comments Processing, Attn: FWS-R1-ES-2015-0128; Division of Policy, Performance, and Management Programs; U.S. Fish and Wildlife Service Headquarters, MS: BPHC, 5275 Leesburg Pike, Falls Church, VA 22041-3803.

(3) Public hearing: Interested parties may provide oral or written comments at the public hearing (see DATES).

We request that you provide comments only by the methods described above. We will post all comments on http://www.regulations.gov. This generally means that we will post any personal information you provide us (see the Public Comments section below for more information).

FOR FURTHER INFORMATION CONTACT: Mary Abrams, Field Supervisor, Pacific Islands Fish and Wildlife Office, 300 Ala Moana Boulevard, Honolulu, HI 96850; by telephone at 808-792-9400; or by facsimile at 808-792-9581. Persons who use a telecommunications device for the deaf (TDD) may call the Federal Information Relay Service (FIRS) at 800-877-8339.

SUPPLEMENTARY INFORMATION:

Public Comments

We are reopening the public comment period for 30 days on our October 13, 2015, proposed rule to list the five American Samoa species (80 FR 61568), to allow all interested parties additional time to comment on the proposed rule. We received a request for a public hearing and to extend the public comment period beyond the December 14, 2015, due date in our October 13, 2015, proposal. We will accept comments and information until the date specified above in DATES or at the public hearing. We will consider all information and recommendations from all interested parties.

For details on specific information that we are requesting, please see the Information Requested section in our proposed listing rule (80 FR 61568) for the five American Samoa species. The proposed rule is available at the Federal eRulemaking Portal at http://www.regulations.gov (see ADDRESSES, above). Our final determination concerning this proposed rulemaking will take into consideration all written and oral comments and any additional information we receive. If you previously submitted comments or information on the proposed rule, please do not resubmit them. We have incorporated them into the public record, and we will fully consider them in our final rulemaking.

You may submit your comments and materials concerning the proposed rule by one of the methods listed in ADDRESSES. We request that you send comments only by the methods described in ADDRESSES.

If you submit a comment via http://www.regulations.gov, your entire comment—including any personal identifying information—will be posted on the Web site. We will post all hardcopy comments on http://www.regulations.gov as well. If you submit a hardcopy comment that includes personal identifying information, you may request at the top of your document that we withhold this information from public review. However, we cannot guarantee that we will be able to do so.

Comments and materials we receive, as well as supporting documentation we used in preparing the proposed rule, will be available for public inspection on http://www.regulations.gov at Docket No. FWS-R1-ES-2015-0128 or by appointment, during normal business hours, at the U.S. Fish and Wildlife Service, Pacific Islands Fish and Wildlife Office (see FOR FURTHER INFORMATION CONTACT).

Authority

The authority for this action is the Endangered Species Act of 1973, as amended (16 U.S.C. 1531 et seq.).

Dated: December 21, 2015.
Stephen Guertin,
Acting Director, U.S. Fish and Wildlife Service.

[FR Doc. 2015-33156 Filed 1-4-16; 8:45 am]

BILLING CODE 4333-15-P